DEPARTMENT OF AGRICULTURE

Food and Nutrition Service

Agency Information Collection Activities: Proposed Collection; Comment Request—Information Collection for Determining Eligibility for Free and Reduced Price Meals

AGENCY: Food and Nutrition Service, USDA.

ACTION: Notice.

SUMMARY: In accordance with the Paperwork Reduction Act of 1995, this notice invites the general public and other public agencies to comment on a proposed information collection for determining eligibility for free and reduced price meals and free milk in schools. 7 CFR part 245 contains information on Federal requirements regarding the determination and verification of eligibility for free and reduced price meals. The current approval for the information collection burden associated with 7 CFR part 245, OMB Number 0584-0026, expires on March 31, 2013. This proposed collection is a revision of the currently approved collection.

DATES: Written comments must be submitted by December 27, 2010.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical or other technological collection techniques or other forms of information technology.

Comments may be sent to: Lynn Rodgers-Kuperman, Chief, Program Analysis and Monitoring Branch, Child Nutrition Division, Food and Nutrition Service, U.S. Department of Agriculture, 3101 Park Center Drive, Room 638, Alexandria, Virginia 22302. Comments will also be accepted through the Federal eRulemaking Portal. Go to http://www.regulations.gov, and follow the online instructions for submitting comments electronically. All written comment(s) will be open for public inspection at the office of the Food and Nutrition Service during regular business hours (8:30 a.m. to 5 p.m., Monday through Friday) at 3101 Park Center Drive, Room 640, Alexandria, Virginia 22302. All responses to this notice will be summarized and included in the request for Office of Management and Budget (OMB) approval, and will become a matter of public record.

FOR FURTHER INFORMATION CONTACT: Lynn Rodgers-Kuperman at (703) 305-2590.

SUPPLEMENTARY INFORMATION: Title: Determining Eligibility for Free and Reduced Price Meals.

OMB Number: 0584-0026.

Expiration Date: March 31, 2013.

Type of Request: Revision of a currently approved collection.

Abstract: The Richard B. Russell National School Lunch Act, authorizes the National School Lunch Program. All schools participating in the National School Lunch Program, OMB Number 0584-0006, Expiration May 31, 2012, or School Breakfast Program, OMB Number 0584-0012, Expiration May 31, 2012, must make free and reduced price meals available to eligible children, and all schools and institutions participating in the free milk option of the School Milk Program must make free milk available for eligible children. Pursuant to 7 CFR Part 245, Determining Eligibility for Free and Reduced Price Meals, and Free milk in schools, School Food Authorities to report information related to verification activities to State agencies annually using Form FNS—742. This information collection asks for information about eligibility for free and reduced price meals and verification procedures employed by participating schools. The purpose of this submission to OMB is to obtain approval for the revised information collection burden resulting from minor changes to the Form FNS-742 report. This minor change will result in an increase in the annual reporting burden for the Form FNS-742, from 10,429 hours to 12,167 hours, which is a total increase of 1,738 hours. However, there are no changes in record keeping burden.

Respondents: The respondents are School Food Authorities.

Estimated Number of Respondents: 20,858 SFAs.

Estimated Responses per Respondent: 1.

Estimate Total Annual Responses: 20,858.

Estimated Hours per Response: .5833.

Estimated Annual Burden Hours: 12,167.

See the table below for change in estimated annual burden using FNS—742.

Respondent | Estimated number respondent | Responses annually per respondent | Total annual responses (Col. bxc) | Estimated avg. number of hours per response | Estimated total hours (Col. dxe)
School Food Authorities | 20,858 | 1.00 | 20,858 | 0.5833 | 12,167
Total Reporting Burden | 20,858 |  | 20,858 |  | 12,167

Dated: October 14, 2010.
Julia Paradis,
Administrator.

[FR Doc. 2010-27061 Filed 10-25-10; 8:45 am]

BILLING CODE 3410-30-P